DEPARTMENT OF ENERGY

Federal Energy Regulatory Commission

Combined Notice of Filings, #1

October 22, 2008.

Take notice that the Commission received the following electric corporate filings:

Docket Numbers: EC09-8-000.

Applicants: Consolidated Edison Co. of New York, Inc.

Description: Consolidated Edison Company of New York, Inc.'s application for authorization under Section 203 of the Federal Power Act regarding purchase of a capacitor facility that New Athens Generating Company will construct.

Filed Date: 10/17/2008.

Accession Number: 20081021-0105.

Comment Date: 5 p.m. Eastern Time on Friday, November 7, 2008.

Docket Numbers: EC09-9-000.

Applicants: Niagara Mohawk Power Corporation, Empire Generating Company.

Description: Joint Application of Niagara Mohawk Power Corp and Empire Generating Co. for Authorization of Lease Transaction Regarding Certain Jurisdictional Facilities Under Section 203 of the FPA.

Filed Date: 10/21/2008.

Accession Number: 20081021-5080.

Comment Date: 5 p.m. Eastern Time on Wednesday, November 12, 2008.

Take notice that the Commission received the following electric rate filings:

Docket Numbers: ER96-2495-031; ER97-4143-020; ER07-1130-002; ER98-2075-025; ER98-542-021.

Applicants: AEP Power Marketing, Inc., AEP Service Corporation, AEP Energy Partners, Inc., CSW Energy Services, Inc., Central and South West Services, Inc.

Description: AEP Power Marketing, Inc. et al. submits revised market-base rate tariffs.

Filed Date: 10/20/2008.

Accession Number: 20081021-0229.

Comment Date: 5 p.m. Eastern Time on Monday, November 10, 2008.

Docket Numbers: ER99-2541-011; ER05-731-005; ER97-3556-019; ER04-582-009, ER99-221-014; ER99-220-016; ER01-1764-008; ER97-3553-007; ER08-387-007; ER09-32-001; ER09-33-001; ER06-200-017; ER07-254-010; ER03-1326-017; ER07-460-008; ER05-534-018; ER05-365-018; ER09-30-001; ER09-31-001; ER05-1262-018; ER06-1093-014; ER03-296-020; ER08-912-003; ER01-3121-019; ER02-418-018; ER03-416-021; ER05-332-018; ER07-287-011; ER08-933-004; ER07-195-010; ER08-934-005; ER07-242-011, ER03-951-020; ER04-94-018; ER02-2085-013; ER02-417-018; ER07-1378-009; ER05-1146-018; ER05-481-018; ER07-240-012

Applicants: Carthage Energy, LLC, Central Maine Power Company, Energetix, Inc., Hartford Steam Company, New York State Electric & Gas Corporation, NYSEG Solutions, Inc., PEI Power II, LLC, Rochester Gas and Electric Corporation, Atlantic Renewable Projects II, LLC, Barton Windpower LLC, Barton Windpower II LLC, Big Horn Wind Project LLC, Casselman Windpower LLC, Colorado Green Holdings LLC, Dillon Wind LLC, Eastern Desert Power LLC, Elk River Windfarm LLC, Elm Creek Wind, LLC, Farmers City Wind, LLC, Flat Rock Windpower LLC, Flat Rock Windpower II LLC, Flying Cloud Power Partners, LLC, IBERDROLA RENEWABLES, Inc., Klamath Energy LLC, Klamath Generation LLC, Klondike Wind Power LLC, Klondike Wind Power II LLC, Klondike Wind Power III LLC, Lempster Wind, LLC, Locust Ridge Wind Farm, LLC, Locust Ridge Wind Farm II, LLC, MinnDakota Wind LLC, Moraine Wind LLC, Mountain View Power Partners III LLC, Northern Iowa Windpower II LLC, Phoenix Wind Power LLC, Providence Heights Wind, LLC, Shiloh I Wind Project, LLC, Trimont Wind I LLC, Twin Buttes Wind LLC

Description: The Iberdrola Renewables Companies notifies FERC of a non-material change in status resulting from the facts noted.

Filed Date: 10/16/2008.

Accession Number: 20081021-0051.

Comment Date: 5 p.m. Eastern Time on Thursday, November 6, 2008.

Docket Numbers: ER06-759-004

Applicants: Selkirk Cogen Partners, L.P.

Description: Selkirk Cogen Partners, LP submits a revised tariff in compliance with the standardized tariff requirements of Order 697-A.

Filed Date: 10/20/2008.

Accession Number: 20081022-0367.

Comment Date: 5 p.m. Eastern Time on Monday, November 10, 2008.

Docket Numbers: ER08-1519-000.

Applicants: Ohio Valley Electric Corporation.

Description: Request to Withdraw 9/10/08 Submission of Service Agreement 51.

Filed Date: 10/14/2008.

Accession Number: 20081014-5122.

Comment Date: 5 p.m. Eastern Time on Tuesday, November 4, 2008.

Docket Numbers: ER08-1531-001.

Applicants: Southern Company Services, Inc.

Description: Southern Company Services, Inc. on behalf of Alabama Power Co. submits an Amended Interconnection Agreement with Tenaska Alabama Partners, LP.

Filed Date: 10/17/2008.

Accession Number: 20081020-0224.

Comment Date: 5 p.m. Eastern Time on Friday, November 7, 2008.

Docket Numbers: ER09-71-000.

Applicants: Otay Mesa Energy Center, LLC.

Description: Otay Mesa Energy Center, LLC submits an application for market based rate authorization.

Filed Date: 10/17/2008.

Accession Number: 20081021-0104.

Comment Date: 5 p.m. Eastern Time on Friday, November 7, 2008.

Docket Numbers: ER09-86-000.

Applicants: Southwestern Electric Power Company.

Description: Southwestern Electric Co submits a Power Supply Agreement with the City of Minden, Louisiana, FERC Rate Schedule 128.

Filed Date: 10/17/2008.

Accession Number: 20081020-0223.

Comment Date: 5 p.m. Eastern Time on Friday, November 7, 2008.

Docket Numbers: ER09-87-000.

Applicants: Cleco Power LLC.

Description: Cleco Power, LLC submits an amendment to their Open Access Transmission Tariff, to update Attachment E.

Filed Date: 10/17/2008.

Accession Number: 20081020-0222.

Comment Date: 5 p.m. Eastern Time on Friday, November 7, 2008.

Docket Numbers: ER09-91-000.

Applicants: Midwest Independent Transmission System Operator Inc, Midwest ISO Transmission Owners.

Description: Midwest ISO et al. propose to revise portions of Attachments O and GG of the Midwest ISO Tariff.

Filed Date: 10/17/2008.

Accession Number: 20081021-0050.

Comment Date: 5 p.m. Eastern Time on Friday, November 7, 2008.

Docket Numbers: ER09-92-000.

Applicants: Southern Company Services, Inc.

Description: Southern Companies submits a Cost-Based Rate Tariff, to become effective 1/1/09.

Filed Date: 10/17/2008.

Accession Number: 20081021-0049.

Comment Date: 5 p.m. Eastern Time on Friday, November 7, 2008.

Docket Numbers: ER09-93-000.

Applicants: Portland General Electric Company.

Description: Portland General Electric Company submits limited revisions to their FERC Electric Tariff, First Revised Volume 12, Rate Schedule for the Sale, Assignment, or Transmission Rights.

Filed Date: 10/17/2008.

Accession Number: 20081021-0047.

Comment Date: 5 p.m. Eastern Time on Friday, November 7, 2008.

Docket Numbers: ER09-94-000.

Applicants: PJM Interconnection, L.L.C.

Description: PJM Interconnection, LLC submits an executed Interim Interconnection Service Agreement and an executed Interconnection Construction Service Agreement with Exelon Generation Co, LLC et al.

Filed Date: 10/20/2008.

Accession Number: 20081021-0224.

Comment Date: 5 p.m. Eastern Time on Monday, November 10, 2008.

Docket Numbers: ER09-95-000.

Applicants: Southern California Edison Company.

Description: Southern California Edison Co. submits revisions to its Transmission Owner Tariff, FERC Electric Tariff, Second Revised Volume No. 6 et al.

Filed Date: 10/20/2008.

Accession Number: 20081021-0236.

Comment Date: 5 p.m. Eastern Time on Monday, November 10, 2008.

Docket Numbers: ER09-96-000.

Applicants: Portland General Electric Company.

Description: Portland General Electric Co. submits First Revised Rate Schedule 108, an Exchange Agreement with Bonneville Power Administration.

Filed Date: 10/20/2008.

Accession Number: 20081021-0223.

Comment Date: 5 p.m. Eastern Time on Monday, November 10, 2008.

Docket Numbers: ER09-97-000.

Applicants: Midwest Independent Transmission System Operator, Inc.

Description: Midwest Independent Transmission System Operator, Inc. submits proposed revisions to its Open Access Transmission, Energy and Operating Reserve Markets Tariff.

Filed Date: 10/20/2008.

Accession Number: 20081021-0226.

Comment Date: 5 p.m. Eastern Time on Monday, November 10, 2008.

Docket Numbers: ER09-98-000.

Applicants: Ameren Services Company.

Description: Ameren Services, agent for Central Illinois Public Service Co, submits a Letter Agreement for installation of metering facilities with Illinois Municipal Electric Agency etc.

Filed Date: 10/20/2008.

Accession Number: 20081021-0227.

Comment Date: 5 p.m. Eastern Time on Monday, November 10, 2008.

Docket Numbers: ER09-99-000; ER99-100-000; ER09-101-000; ER09-102-000; ER09-103-000.

Applicants: AEP Power Marketing, Inc., AEP Service Corporation, AEP Energy Partners, Inc., CSW Energy Services, Inc., Central and South West Services, Inc.

Description: AEP Power Marketing, Inc. et al. submit new cost-based tariffs for the sale of capacity and energy.

Filed Date: 10/20/2008.

Accession Number: 20081021-0228.

Comment Date: 5 p.m. Eastern Time on Monday, November 10, 2008.

Docket Numbers: ER09-105-000.

Applicants: Midwest Independent Transmission System Operator, Inc.

Description: Midwest Independent Transmission System Operator Inc. submits an executed Amended and Restated Interconnection and Operating Agreement with White Pine Electric Power LLC etc.

Filed Date: 10/21/2008.

Accession Number: 20081021-0325.

Comment Date: 5 p.m. Eastern Time on Wednesday, November 12, 2008.

Docket Numbers: ER09-106-000.

Applicants: Midwest Independent Transmission System Operator, Inc.

Description: Midwest Independent Transmission System Operator, Inc's Amended and Restated Interconnection and Operating Agreement with High Prairie Wind Farm II, LLC etc.

Filed Date: 10/21/2008.

Accession Number: 20081021-0326.

Comment Date: 5 p.m. Eastern Time on Wednesday, November 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-25718 Filed 10-28-08; 8:45 am]

BILLING CODE 6717-01-P